DEPARTMENT OF THE INTERIOR

Minerals Management Service (MMS)

Availability of Revised Outer Continental Shelf Leasing Map

AGENCY: Minerals Management Service, Interior.

SUMMARY: Notice is hereby given that effective with this publication, the following NAD 27-based Outer Continental Shelf Leasing Map last revised on the date indicated, is on file and available for information only, in the Gulf of Mexico OCS Regional Office, New Orleans, Louisiana. In accordance with Title 43, Code of Federal Regulations, this map is the basic record for the description of mineral and oil and gas lease sales in the geographic area it represents.

Outer Continental Shelf Leasing Map in the Central Gulf of Mexico Planning Area

Description—LA7A Grand Isle Area, South Addition.

Date—February 17, 2004.

This revision corrects an error on Leasing Map LA7A, Grand Isle Area, South Addition, dated November 1, 2000. The grid label Y = −21177.170′ is corrected as follows: Y = −21077.170′

FOR FURTHER INFORMATION CONTACT: Copies of Leasing Maps and Official Protraction Diagrams (OPDs) are $2.00 each. These may be purchased from the Public Information Unit, Information Services Section, Gulf of Mexico OCS Region, Minerals Management Service, 1201 Elmwood Park Boulevard, New Orleans, Louisiana 70123-2394, Telephone (504) 736-2519 or (800) 200-GULF.

Leasing Maps and OPDs may be obtained in two digital formats: .gra files for use in ARC/INFO and .pdf files for viewing and printing in Acrobat. Copies are also available for download at http://www.gomr.mms.gov/homepg/lsesale/mapdiag.html.

Dated: March 25, 2004.
Thomas A. Readinger,
Associate Director for Offshore Minerals Management.

[FR Doc. 04-9637 Filed 4-27-04; 8:45 am]

BILLING CODE 4310-MR-P